DEPARTMENT OF COMMERCE

Foreign-Trade Zones Board

[B-02-2021]

Foreign-Trade Zone (FTZ) 114—Peoria, Illinois; Notification of Proposed Production Activity; Rivian Automotive, LLC (Electric Vehicles and Components); Normal, Illinois

Rivian Automotive, LLC (Rivian) submitted a notification of proposed production activity to the FTZ Board for its facilities in Normal, Illinois. The notification conforming to the requirements of the regulations of the FTZ Board (15 CFR 400.22) was received on January 8, 2021.

The applicant indicates that it will be submitting a separate application for FTZ designation at the company's facility under FTZ 114. The facility will be used for the production of electric passenger and delivery vehicles, as well as vehicle components, subassemblies, chargers and charging stations. Pursuant to 15 CFR 400.14(b), FTZ activity would be limited to the specific foreign-status materials/components and specific finished products described in the submitted notification (as described below) and subsequently authorized by the FTZ Board.

Production under FTZ procedures could exempt Rivian from customs duty payments on the foreign-status materials/components used in export production. On its domestic sales, for the foreign-status materials/components noted below, Rivian would be able to choose the duty rates during customs entry procedures that apply to: Brackets, mountings and fittings (plastic; metal); inverters; lithium-ion electric battery packs; electric vehicles (passenger; delivery); vehicle bodies and body assemblies (passenger; delivery); assemblies (interior and exterior door; drivetrain; subframe); automotive body products (stampings; panels; pillars; crossmembers; reinforcements and supports); underbodies; automotive floors; automotive hoods; truck beds; tailgates and liftgates; roof headers, roofs, and roof assemblies; rails and rocker panels; automotive beams; wheelhouses and arches; cladding panels; electric vehicle “skateboard” chassis; drive unit; electric vehicle charging products (power cabinet; power cabinet module; dispenser (direct current fast charger)); slide out cargo tunnel track assemblies designed for vehicles; and, slide out camping kitchen assemblies designed for installation in cargo tunnel of pick-up trucks (duty rate ranges from duty-free to 25.0%). Rivian would be able to avoid duty on foreign-status components which become scrap/waste. Customs duties also could possibly be deferred or reduced on foreign-status production equipment.

The materials/components sourced from abroad include: General purpose automotive lubricants for gears; R1234YF hydrofluoroolefin (HFO) refrigerant; paint primer; clear coat paint; paint, e-coat resin and e-coat paste; washer fluid; automotive grease; resin cements and caulking components; brake fluid; coolant/antifreeze; high density polyethylene; polypropylene; electrocoating resin clear coat; rigid plastic tubing (ethylene; propylene; vinyl chloride); plastic components (tubes and hoses; tubes (having a minimum burst pressure of 27.6 MPa; not reinforced (with or without fittings); reinforced); fittings for hoses; bags; jugs; caps, plugs and closures; bezels, mountings, and fittings for vehicle interior; handles and handle inserts; brackets, mountings, fittings, fasteners, spacers, sliders, inserts and clips; straps and cable ties; all weather mats and floor mats); electrical and sealing tape; self-adhesive components (plastic (sheets; films; labels; strips); foam strips; labels); polyethylene separators; badges/emblems, trim and finishing closures (plastic; chrome); gaskets, washers and seals—including sealing tape (foam; plastic); rubber components (weatherstripping; profiles; hoses (not reinforced, with or without fittings; air and brake; reinforced without fittings); tubing (air and brake; for washer fluid and other liquids); floor and tray mats; gaskets; plugs; seals; O-rings; grommets; thermal pads; wiper blades); tires; ethylene propylene diene monomer (EPDM) rubber exterior door and body seals; natural rubber components (air springs; bumpers); synthetic rubber components (bushings; plugs and fillers; isolators); carrying/storage cases of man-made fibers; seat belt components (webbing; retractors, pretensioners and assemblies; belt buckles, tongues and assemblies; belt adjusters and assemblies); camping tents for pick-up truck beds; high temperature mineral wool insulation; glass mirrors; steel components (tube fittings; stranded wire cables; self-tapping screws; screws; bolts; studs; socket screws; setscrews; nuts and lug nuts; locknuts; fasteners; plugs; studs; lock washers; washers; rivets; cotter pins; pins; snap rings; non-threaded fasteners; leaf springs and leaves; springs; eyelets; rings; clamps; caps; clips; retainer plates; magnetic steel cargo shelf assemblies; wheels; wheels with tire assemblies); components for pick-up truck slide out camping kitchen (stainless steel kitchenware; towel racks; induction cooktops and cooktop assemblies); aluminum components (spacers; fasteners; gaskets; plugs; wheels; wheels with tire assemblies); manual actuators for hoods, cargo boxes and doors; locks; key cylinders; keys; metal components (hinges; brackets; braces; mountings; fittings; drawer slides; levers and lever assemblies; seals); charging cabinet brackets and mountings; gas springs; welding studs; brake actuators; pumps (displacement; electric oil; centrifugal); vehicle thermal management system components (refrigerant compressors; refrigerant lines; refrigeration chillers); fans; air compressors; modules (air conditioning control; thermal cooling; radar; global positioning system (GPS) navigation; antenna; condenser radiator fan); heat exchangers; filters (oil; air); housings for components (air filters; inverter gate drive; controllers; junction boxes and connectors; mirrors (“scalps”); fuse box); windshield washer/wiper components (dispensers and assemblies; nozzles); windshield washer components (reservoirs; reservoir filler necks); jacking pucks; valves (pressure relief; solenoid and regulator); valve bodies, manifolds, and connectors; faucet sprayer head and sprayer assemblies; bearings (ball; tapered roller (including wheel hub units); cylindrical); bearing rings and cups; cross-axis joints; low voltage motors; alternating current (AC) electric motors exceeding 150kW; assemblies (drive unit; printed circuit board; insulated electrical connector; interior and exterior door; roof; seat belt; control arm; valve block; steering wheel and steering rack; slide out cargo tunnel track designed for vehicles; pull out camping kitchen designed for vehicles; winch); electric vehicle motors/drive units; stators and rotors; electric transformers; converters; drive inverters; portable and onboard chargers; sintered neodymium-iron-boron non-flexible magnets; lead acid batteries; lithium ion batteries, modules, battery packs, and cells; battery components (carriers, separators and walls for cells and modules; control modules; pack and module enclosures (including top and bottom lids, covers and housings for modules, submodules and vehicle battery packs); shields and skid plates; adapters and connectors for connecting and sealing battery pack to the vehicle body; clamps); signaling equipment (lighting and visual; horns and sound); demisters; windshield wipers and defrosters; flashlights; charging cabinet radiators; cabin heaters; wireless transmission devices; hand-free microphones; sound system speakers mounted in enclosures (single; multiple); sound system speakers without enclosures; sound system amplifiers; speaker grills and covers; vehicle safety and navigational cameras; key fobs and remote control access cards; communication and navigation antennas; low noise amplifiers; radio receivers (AM/FM; satellite); circuits (printed; flexible printed); remote tuners; intrusion alarms; dashboard display panels; capacitors; sensors (multi-purpose; day/night solar; ride height; rangefinders and range detecting; temperature and thermal; pressure; multi-use; air quality and smoke detection; current); terminals and connectors; fuses; circuit breakers; power distribution units and electrical overload protectors; contactors; relays; electric switches and buttons; pack headers and connectors; busbars and busbar headers, jumpers, and trays; lugs; terminals; junction boxes; control modules and electronic control units (ECU); panel and distribution boards; programmable controllers; cabinets, consoles, and bases for electrical apparatus; printed circuit boards; sealed beam lamps for vehicles; microchips (programmable and data storage); electronic control units, modules and sensors; low voltage coaxial cables fitted with connector (<1,000 volts); wiring harnesses and wiring sets; insulated wiring harnesses; components for a voltage not exceeding 1,000V (insulated busbar fitted with connectors; insulated grounding wire fitted with connectors; cable; insulated grounding wire not fitted with connectors); electromagnetic interference (EMI) filters; bumpers; bumper components (moldings and trim; inserts and covers; beams and reinforcements); cross car reinforcement beams; body components (crossmembers; pillars and pedestals; reinforcements; side panels; stampings); bulkheads; cant rails; consoles; console armrests and foam; corner nodes; cowls; crush boxes and crush cans; cupholders; ducts, vents and vent covers; interior panels and covers; fascias and cladding; fenders; floor carpet for vehicles; automotive floor panels; gear tunnels; glass run channels; belt cladding; moldings, trim and garnish; grilles; gussets; handles (with and without locks); headers; headliners (cut to shape/fitted); automotive hoods; hood liners (cut to shape/fitted); dashboard insulators; joinings and supports; leaf screens; rails and rocker panels; roofs; steering shafts; shock towers; spoilers; storage bins and compartments; door latches and door strikers; substrates; sun visors; sun visor covers, straps, and catches; tailgates and liftgates; wheel liners, tire blocks and spats; torque boxes; truck beds; underbodies; wheel houses and arches; windshields, roof and window glass; brake calipers, discs, rotors, pedals, lines, actuators, shafts and shields, plates, brackets, hubs, pads, shims, pistons, and dust boots; shields and housings for gears and motors; non-driving axles; wheel caps; shocks; struts; accumulators; control arms; dampers; damper modules, valve blocks, and dust boots; jounce bumpers, cups, and lines; suspension knuckles; suspension links, link assemblies, and link bushings; lines and line assemblies (includes hydraulic); manifolds; toe links; steering wheels, columns, boxes, racks, shafts and gears; steering spokes and steering spoke covers and inserts; airbags; accelerator pedals; baffles; brake hoses; closure caps; drive axles without differential; closure lids; spindles; cargo crossbars, mounts, and racks; degas bottles; latch cables; nylon latch webbing; protective lids/covers; accessory enclosure panels; service and roadside safety kits; shims; subframes; tow hooks; wheel hub units and assemblies; winches; liquid crystal displays; light detecting and ranging (LiDAR) units; tire pressure management systems (TPMS); coolant manifolds; instrument cluster meters and display elements; seats for motor vehicles; storage pouches and pockets for seats; seat cushions, backs, armrests and head rests; seat adjusters and handles; seat frames, supports, pedestals and reinforcements; protective plastic covers, shields and gap hiders for seats; and, coat hooks for seats (duty rate ranges from duty free to 17.6%, and $0.84/bbl). The request indicates that carrying/storage cases of man-made fibers, seat belt webbing, and camping tents for pick-up truck beds will be admitted to the zone in privileged foreign (PF) status (19 CFR 146.41), thereby precluding inverted tariff benefits on such items. The request indicates that tires, tapered bearings, and steel wheels/assemblies are subject to an antidumping/countervailing duty (AD/CVD) order if imported from certain countries. The FTZ Board's regulations (15 CFR 400.14(e)) require that merchandise subject to AD/CVD orders, or items which would be otherwise subject to suspension of liquidation under AD/CVD procedures if they entered U.S. customs territory, be admitted to the zone in PF status. The request also indicates that certain materials/components are subject to duties under Section 232 of the Trade Expansion Act of 1962 (Section 232) or Section 301 of the Trade Act of 1974 (Section 301), depending on the country of origin. The applicable Section 232 and Section 301 decisions require subject merchandise to be admitted to FTZs in PF status.

Public comment is invited from interested parties. Submissions shall be addressed to the Board's Executive Secretary and sent to: ftz@trade.gov. The closing period for their receipt is March 8, 2021.

A copy of the notification will be available for public inspection in the “Reading Room” section of the Board's website, which is accessible via www.trade.gov/ftz.

For further information, contact Juanita Chen at juanita.chen@trade.gov or 202-482-1378.

Dated: January 21, 2021.
Andrew McGilvray,
Executive Secretary.

[FR Doc. 2021-01794 Filed 1-26-21; 8:45 am]

BILLING CODE 3510-DS-P